NATIONAL AERONAUTICS AND SPACE ADMINISTRATION

[NOTICE: 23-124]

Agency Information Collection: National Aeronautics and Space Administration (NASA) Kennedy Space Center Exchange Evelyn Johnson Scholarship Program

AGENCY: National Aeronautics and Space Administration.

ACTION: Notice of new information collection.

SUMMARY: The National Aeronautics and Space Administration, as part of its continuing effort to reduce paperwork and respondent burden, invites the general public and other Federal agencies to take this opportunity to comment on proposed and/or continuing information collections.

DATES: Comments are due by February 20, 2024.

ADDRESSES: Written comments and recommendations for this information collection should be sent within 60 days of publication of this notice to www.reginfo.gov/public/do/PRAMain. Find this particular information collection by selecting “Currently under 60-day Review-Open for Public Comments” or by using the search function.

FOR FURTHER INFORMATION CONTACT: Requests for additional information or copies of the information collection instrument(s) and instructions should be directed to NASA PRA Clearance Officer, Bill Edwards-Bodmer, NASA Headquarters, 300 E Street SW, JF0000, Washington, DC 20546, phone 757-864-7998, or email hq-ocio-pra-program@mail.nasa.gov.

SUPPLEMENTARY INFORMATION:

I. Abstract

The Evelyn Johnson Scholarship Program (EJSP) recognizes the academic achievement of, and provides financial assistance to, the dependents of NASA Kennedy Space Center (KSC) civil service and NASA KSC Exchange employees. The scholarship honors the dedication and commitment of the late Evelyn Johnson, a Deputy Director, Equal Opportunity Program Office at KSC. Applicants are evaluated on the basis of academic achievement, involvement in school and community activities, and education and career goals. The scholarship winners may pursue any course of study leading to an undergraduate degree at any accredited college in the country. The scholarship is intended to be used only for tuition, fees, books and supplies associated with attending college.

II. Methods of Collection

Electronically available form.

III. Data

Title: NASA Kennedy Space Center Exchange Evelyn Johnson Scholarship Program.

OMB Number: 2700-new.

Type of review: New information collection.

Affected Public: Individuals.

Estimated Annual Number of Activities: 3 to 5 scholarships per year.

Estimated Number of Respondents per Activity: 20 applicants per year.

Annual Responses: 20.

Estimated Time per Response: Approx. 1 hour each.

Estimated Total Annual Burden Hours: 20 hours.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2023-27836 Filed 12-18-23; 8:45 am]

BILLING CODE 7510-13-P